FEDERAL EMERGENCY MANAGEMENT AGENCY

Privacy Act of 1974: Proposed New Routine Use of Existing System of Records

AGENCY: Federal Emergency Management Agency (FEMA).

ACTION: Notice of a proposed new routine use to an existing system of records.

SUMMARY: Under the Privacy Act of 1974, 5 U.S.C. 552a, we, the Federal Insurance and Mitigation Administration (FIMA) of FEMA, give notice of a proposed new routine use to be added to an existing system of records entitled FEMA/FIA-2, National Flood Insurance Application and Related Documents Files.

EFFECTIVE DATE: The proposed routine use is effective, without further notice, September 26, 2001, unless comments necessitate otherwise.

ADDRESSES: We invite your comments on this new routine use. Please send them to the Rules Docket Clerk, Office of the General Counsel, Federal Emergency Management Agency, room 840, 500 C Street, SW., Washington, DC 20472; (telefax) (202) 646-4536, or (email) rules@fema.gov.

FOR FURTHER INFORMATION CONTACT: Eileen Leshan, FOIA/Privacy Act Specialist, Federal Emergency Management Agency, room 840, 500 C Street, SW., Washington, DC 20472, (telephone) (202) 646-4115, (telefax) (202) 646-4536, or (email) Eileen.Leshan@fema.gov.

SUPPLEMENTARY INFORMATION: We last published our notice of systems of records on January 5, 1987, 52 FR 324; February 3, 1987, 52 FR 3344; March 5, 1987, 52 FR 6875; September 7, 1990, 55 FR 37182; and June 7, 1991, 56 FR 26415. We previously published the system identified as FEMA/FIA-2, National Flood Insurance Application and Related Documents Files, on November 26, 1982, 47 FR 53492, which was amended on October 25, 1983, 48 FR 49376; February 17, 1984, 49 FR 6168; May 13, 1985, 50 FR 20007; January 5, 1987, 52 FR 324; July 28, 1988, 53 FR 28437; and August 9, 1988, 53 FR 29947.

We have established the Repetitive Loss Target Group (RLTG) as part of an initiative to reduce claims under the National Flood Insurance Program (NFIP) with respect to properties that have experienced multiple losses. Generally, we have defined repetitive loss properties as those that have had at least two losses of $1,000 or more within any 10-year period. The RLTG is a subset of these properties that include currently insured properties that have either:

1. Two or more losses that, in the aggregate, equal or exceed the current value of the insured property; or

2.Four or more losses.

The RLTG includes approximately 11,000 properties. Inclusion of a property in the RLTG results in the transfer of the flood insurance policy to a central facility designed to oversee claims and to coordinate and facilitate insurance mitigative actions. Owners of properties identified as RLTG properties may appeal this determination. To do so, however, may require access to the properties' loss histories under previous owners. We propose, accordingly, a new routine use to permit release of certain loss history information to a current property owner considering appealing the designation of his/her property as a RLTG property, subject to inclusion in the Repetitive Loss initiative.

Dated: September 5, 2001.
Michael D. Brown,
General Counsel.

FEMA/FIA-2

System Name:

National Flood Insurance Application and Related Documents Files.

Security Classification:

Unclassified.

System Location:

Various offices of a servicing agent under contract to the Federal Insurance and Mitigation Administration, Federal Emergency Management Agency, Washington, DC 20472. Copies of some of the files are also provided to the FEMA Regional offices when their respective offices request additional information.

Categories of Individuals Covered by the System:

Applicants for individual flood insurance and individuals insured.

Categories of Records in the System:

Flood insurance, policy issuances and administration records and claims adjustment records, including:

Form | Title of form
FEMA Form 81-64 | Applications for Participation in the National Flood Insurance Program
FEMA Form 81-16 | Flood Insurance Application
FEMA Form 81-18 | Flood Insurance General Change Endorsements
FEMA Form 81-23 | Request for Policy Processing and Renewal Information
FEMA Form 81-17 | Flood Insurance Cancellation/Nullification Request Form
FEMA Form 81-67 | Flood Insurance Preferred Risk Policy Application
FEMA Form 81-31 | National Flood Insurance Program Elevation Certificate
FEMA Form 81-65 | National Flood Insurance Program Floodproofing Certificate
FEMA Form 81-25 | V Zone Risk Factor Rating Form
FEMA Form 81-40 | National Flood Insurance Program Worksheet—Contents
FEMA Form 81-41 | National Flood Insurance Program Worksheet—Building
FEMA Form 41a | National Flood Insurance Program Worksheet—Building (Continuation)
FEMA Form 81-42 | National Flood Insurance Proof of Loss
FEMA Form 81-43 | National Flood Insurance Program Notice of Loss
FEMA 81-44 | Statement as to full cost of repair or replacement under the replacement cost coverage, subject to the terms and conditions of the Standard Flood Insurance Policy
FEMA Form 81-45 | Adjuster's Short Form Report
FEMA Form 81-57 | National Flood Insurance Program Preliminary Report
FEMA Form 81-58 | National Flood Insurance Program Final Report
FEMA Form 81-59 | National Flood Insurance Program Narrative Report
FEMA Form 81-63 | National Flood Insurance Program Cause of Loss/Subrogation Report

This system may also contain information regarding the name of the bank/lender, date of mortgage, address of bank/lender and if available, information on every loan placed on the property during the current owner's tenure. This system contains the taxpayer's identification number (which may be the social security number).

AUTHORITY FOR MAINTENANCE OF THE SYSTEM:

National Flood Insurance Act of 1968 and Flood Disaster Protection Act of 1973, 42 U.S.C. 4001—4129; 5 U.S.C. 301; Reorganization Plan No. 3 of 1978, 3 CFR, 1978 Comp., p. 329; and E.O. 12127, 3 CFR, 1979 Comp, p. 376.

PURPOSE(S):

To carry out the National Flood Insurance Program and verify nonduplication of benefits.

ROUTINE USES OF RECORDS MAINTAINED IN THE SYSTEM, INCLUDING CATEGORIES OF USERS AND THE PURPOSES OF SUCH USES:

Category of users | Purposes
To property loss reporting bureaus, State insurance departments, and insurance companies | investigating fraud or potential fraud in connection with claims, subject to the approval of the Office of Inspector General, FEMA.
To insurance agents, brokers, adjusters, and lending institutions | for carrying out the purposes of the National Flood Insurance Program.
To the Small Business Administration, the American Red Cross, the Farm Service Agency of USDA, State and local government individual and family grant and assistance agencies | for determining eligibility for benefits and for verification of nonduplication of benefits following a flooding event or disaster.
To Write-Your-Own companies as authorized in 44 CFR 62.23 | to avoid duplication of benefits following a flooding event or disaster and for carrying out the purposes of the National Flood Insurance Program.
To State and local government individual and family grant agencies | to permit such agencies to assess the degree of financial burdens toward residents such as States and local governments might reasonably expect to assume in the event of a flooding disaster and to further the flood insurance marketing activities of the National Flood Insurance Program.
To State and local government agencies that provide the names and addresses of policyholders and a brief general description of their plan for acquiring and relocating their flood prone properties | for review by the Federal Insurance and Mitigation Administrator to ensure that their State or local government agency is engaged in flood plain management, improved real property acquisitions, and relocation projects that are consistent with the National Flood Insurance Program and, upon the approval by the Federal Insurance and Mitigation Administrator, that the use furthers flood plain management and hazard mitigation goals of the Agency.
To State and local government agencies and municipalities | to review National Flood Insurance Program policy claim files to assist them in hazard mitigation and flood plain management activities and in monitoring compliance with the flood plain management measures duly adopted by the community.
To State governments, federal agencies, and federal financial instrumentalities responsible for the supervision, approval, regulation or insuring of banks, savings and loan associations or similar institutions | for carrying out the purposes of the National Flood Insurance Program.
To private companies engaged in or planning to engage in activities to market or assist lenders and mortgage servicing companies | the property address, flood zone identifier, date of policy issue, and value of policy, solely for the purpose of geocoding the flood insurance policy addresses, may be released to aid efforts of lenders and mortgage servicing companies to comply with the requirements of the Flood Disaster Protection Act of 1973 and to market the sale of flood insurance policies under the National Flood Insurance Program.
To lending institutions, mortgage servicing companies and others servicing mortgage loan portfolios | the policy numbers of NFIP policy-holders may be released to secure flood insurance protection for those properties that are a part of a lending institution's mortgage portfolio and to assure lender compliance with the flood insurance purchase requirements of the Flood Disaster Protection Act of 1973.
To current owners of properties designated under the National Flood Insurance Program as Repetitive Loss Target Group properties | the dates and dollar amounts of loss payments made to prior owners may be released so that owners may evaluate whether that designation is appropriate and may, if they believe the designation is not appropriate, use the information to appeal that designation.

Routine uses may include Nos. 1, 5, 6, and 8 of Appendix A.

DISCLOSURE TO CONSUMER REPORTING AGENCIES:

Disclosures under 5 U.S.C. 552a(b)(12): Disclosures may be made from this system to “consumer reporting agencies” as defined in the Fair Credit Reporting Act, 15 U.S.C. 1681a(f), or the Federal Claims Collection Act of 1966, 31 U.S.C. 3701(a)(3).

POLICIES AND PRACTICES FOR STORING, RETRIEVING, ACCESSING, RETAINING, AND DISPOSING OF RECORDS IN SYSTEM:

STORAGE:

Magnetic Tape/disc/drum and paper files.

RETRIEVABILITY:

By name of the policyholders and policy number.

SAFEGUARDS:

Personnel screening, hardware and software computer security measures; paper records are maintained in locked containers, locked rooms, or both. All records are maintained in areas that are secured by building guards during non-business hours. Records are retained in areas accessible only to authorized personnel who are properly screened, cleared and trained.

RETENTION AND DISPOSAL:

Policy records are kept as long as insurance is desired and premiums paid, and for an appropriate time thereafter and claim records are kept for 6 years and 3 months after final action, unless litigation exists. Disposition of records will accord with FEMA Records Schedule N1-311-86-1, 2a12 and 2a13.

SYSTEM MANAGER(S) AND ADDRESS:

Federal Insurance Administrator, Federal Emergency Management Agency, Washington, DC 20472.

NOTIFICATION PROCEDURES:

If you wish to inquire whether this system of records contains information about you, please contact the Federal Insurance Administrator, as immediately above. Please clearly mark written requests “Privacy Act Request” on the envelope and letter, and include your full name, some type of appropriate personal identification, and your current address. For personal visits, you must provide some acceptable identification, such as, driver's license, employing organization's identification card, or other identification card.

RECORD ACCESS PROCEDURES:

Same as Notification procedures above.

CONTESTING RECORD PROCEDURES:

Same as Notification procedures above. The letter should state clearly and concisely what information you are contesting, the reasons for contesting it, and the proposed amendment to the information that you seek.

FEMA Privacy Act Regulations are published in 44 CFR part 6.

RECORD SOURCE CATEGORIES:

Individuals who apply for flood insurance under the National Flood Insurance Program and individuals who are insured under the program.

SYSTEMS EXEMPTED FROM CERTAIN PROVISIONS OF THE ACT:

None.

Appendix A

Introduction to Routine Uses: We have identified certain routine uses as being applicable to many of the FEMA systems of record notices. We list the specific routine uses applicable to an individual system of record notice under the “Routine Use” section of the notice itself, which correspond to the numbering of the routine uses published below. We are publishing these uses only once in the interest of simplicity, economy and to avoid redundancy, rather than repeating them in every individual system notice.

1. Routine Use—Law Enforcement: A record from any FEMA system of records, which indicates either by itself or in combination with other information within FEMA's possession, a violation or potential violation of law, whether civil, criminal or regulatory in nature, and whether arising by general statute, or by regulation, rule or order issued pursuant thereto, and which we may disclose as a routine use to the appropriate agency whether Federal, State, territorial, local or foreign, or foreign agency or professional organization, charged with the responsibility of enforcing, implementing, investigating, or prosecuting such violation or charged with implementing the statute, rule, regulation or order issued pursuant thereto.

2. Routine Use—Disclosure When Requesting Information: We may disclose as a routine use a record from a FEMA system of records to a Federal, State, or local agency maintaining civil, criminal, regulatory, licensing or other enforcement information or other pertinent information, such as current licenses, if necessary, to obtain information relevant to an agency decision concerning the hiring or retention of an employee, the issuance of a security clearance, the letting of a contract, or the issuance of a license, grant, or other benefit.

3. Routine Use—Disclosure of Requested Information: We may disclose as a routine use a record from a FEMA system of records to a Federal agency, in response to a written request in connection with the hiring or retention of an employee, the issuance of an investigation of an employee, the letting of a contract, or the issuance of a license, grant, or other benefit by the requesting agency, to the extent that the information is relevant and necessary to the requesting agency's decision on the matter.

4. Routine Use—Grievance, Complaint, Appeal: We may disclose as a routine use a record from a FEMA system of records to an authorized appeal or grievance examiner, formal complaints examiner, equal employment opportunity investigator, arbitrator, mediator, or other duly authorized official engaged in investigation or settlement of a grievance, complaint, or appeal filed by an employee. We may disclose a record from this system of records to the Office of Personnel Management in accordance with that agency's responsibility for evaluation of Federal personnel management.

To the extent that official personnel records in the custody of FEMA are covered within systems of records published by the Office of Personnel Management as government-wide records, we will consider those records as a part of that government wide system. We may transfer as a routine use other official personnel records covered by notices published by FEMA and considered to be separate systems of records to the Office of Personnel Management in accordance with official personnel programs and activities.

5. Routine Use—Congressional Inquiries: We may disclose as a routine use a record from a FEMA system of records to a Member of Congress or to a Congressional staff member in response to an inquiry of the Congressional office made at the request of the individual about whom the record is maintained.

6. Routine Use—Private Relief Legislation: We may disclose as a routine use the information contained in a FEMA system of records to the Office of Management and Budget in connection with the review of private relief legislation as set forth in OMB Circular No. A-19 at any stage of the legislative coordination and clearance process as set forth in that circular.

7. Routine Use—Disclosure to the Office of Personnel Management: We may disclose as a routine use a record from a FEMA system of records to the Office of Personnel Management concerning information on pay and leave benefits, retirement deductions, and any other information concerning personnel actions.

8. Routine Use—Disclosure to National Archives and Records Administration: We may disclose as a routine use a record from a FEMA system of records to the National Archives and Records Administration in records management inspections conducted under authority of 44 U.S.C. 2904 and 12906.

9. Routine Use—Grand Jury: We may disclose as a routine use a record from any system of records to a grand jury agent pursuant to a Federal or State grand jury subpoena or to a prosecution request that such record be released for the purpose of its introduction to a grand jury.

[FR Doc. 01-22710 Filed 9-10-01; 8:45 am]

BILLING CODE 6718-03-P